DEPARTMENT OF HOUSING AND URBAN DEVELOPMENT

[Docket No. FR-4817-N-20]

Notice of Proposed Information Collection for Public Comment for Contract Administration—Public and Indian Housing

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: January 16, 2004.

ADDRESSES: Interested persons are invited to submit comments regarding this proposal. Comments should refer to the proposal by name and/or OMB Control Number and should be sent to: Mildred M. Hamman, Reports Liaison Officer, Public and Indian Housing, Department of Housing & Urban Development, 451-7th Street, SW., Room 4249, Washington, DC 20410-5000.

FOR FURTHER INFORMATION CONTACT: Mildred M. Hamman, (202) 708-0614, extension 4128. (This is not a toll-free number). For hearing- and speech-impaired persons, this telephone number may be accessed via TTY (Text telephone) by calling the Federal Information Relay Services at 1-800-877-8339 (toll-free).

SUPPLEMENTARY INFORMATION: The Department will submit the proposed information collection to OMB for review, as required by the Paperwork Reduction Act of 1995 (44 U.S.C. chapter 35, as amended).

Housing Agencies (HAs) must maintain certain records and submit certain documents to HUD with the award of oversight or construction contracts for development or new low-income housing developments or modernization of existing developments. This information is necessary for compliance with procurement requirements part 85.36(b).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also Lists the Following Information:

Title of Proposal: Contract Administration—Public and Indian Housing.

OMB Control Number: 2577-0039.

Description of the Need for the Information and Proposed Use: HAs will keep records or submit the following information to HUD:

Bidding Control Record. HAs or its architect maintains a record of bid documents received or issued to each individual or firm requesting a bid package. A control record is required for each contract, but is not submitted to HUD, except for the bid tabulation when prior HUD approval of contract award is required.

Register of Change Order and Time Extensions. HAs maintain a register of change orders and time extensions to assure factual data upon which to adjudicate disputes or claims concerning delays from the HA, architect, contractor or HUD actions or inactions relative to approval, disapproval or execution of requested work changes or time extensions.

Form HUD-5372, Construction Progress Schedule. Immediately after execution of the Construction Contract, the contractor submits Form HUD-5372 to the HA to enable accurate checking of Actual completion of the contract within prescribed time periods.

Form HUD-51000, Schedule of Amounts for Contract Payments. Immediately after execution of the construction contract, the contractor submits the schedule of amounts for contract payment to the HA to enable accurate checking of periodical estimates for partial payments.

Agency form numbers: HUD-5372; HUD-5100.

Members of the Affected Public: State, local or tribal governments; business or other for-profit.

Estimation Including the Total Number of Hours Needed To Prepare the Information Collection for the Number of Respondents, Frequency of Response, and Hours of Response: 11,608 responses, one response per construction contract, 1.3 hours per response, 14,506 total burden hours.

Status of the Proposed Information Collection: Extension.

Authority: Section 3506 of the Paperwork Reduction Act of 1995, 44 U.S.C. chapter 35, as amended.

Dated: October 31, 2003.
Michael Liu,
Assistant Secretary for Public and Indian Housing.

[FR Doc. 03-28586 Filed 11-14-03; 8:45 am]

BILLING CODE 4210-33-M